DEPARTMENT OF DEFENSE

Department of the Air Force

Notice of issuance of Record of Decision Regarding an Air-to-Ground Training Range in Blaine County, MT

AGENCY: Department of the Air Force, DoD.

ACTION: Notice of record of decision.

SUMMARY: The Air Force issued a Record of Decision (ROD) on May 13, 2002. The ROD reflected the Air Force decision to develop an air-to-ground training range in Blaine County, Montana (Alternative 1). The range is designed to enhance the training for the Montana Air National Guard's 120th Fighter Wing stationed at Great Falls International Airport.

FOR FURTHER INFORMATION CONTACT: John J. Cabala, Maj, USAF (703) 697-1731.

Pamela D. Fitzgerald,
Air Force Federal Register Liaison Officer.

[FR Doc. 02-13768 Filed 5-31-02; 8:45 am]

BILLING CODE 5001-05-P